DEPARTMENT OF ENERGY

Federal Energy Regulatory Commission

Combined Notice of Filings # 1

October 28, 2010.

Take notice that the Commission received the following electric rate filings:

Docket Numbers: ER96-780-030; ER00-3240-020; ER01-1633-017.

Applicants: Southern Company Services, Inc.; Oleander Power Project, LP; Southern Company—Florida LLC.

Description: Report of Non-Material Change in Estimated Coal Reserves of Southern Company Services, Inc.

Filed Date: 10/27/2010.

Accession Number: 20101027-5057.

Comment Date: 5 p.m. Eastern Time on Wednesday, November 17, 2010.

Docket Numbers: ER03-198-016.

Applicants: Pacific Gas and Electric Company.

Description: Pacific Gas and Electric Company Notice of Non-Material Change in Status.

Filed Date: 10/28/2010.

Accession Number: 20101028-5120.

Comment Date: 5 p.m. Eastern Time on Thursday, November 18, 2010.

Docket Numbers: ER07-312-006; EL10-74-000.

Applicants: Dogwood Energy LLC.

Description: Response of Dogwood Energy LLC to Show Cause Order.

Filed Date: 10/12/2010.

Accession Number: 20101012-5310.

Comment Date: 5 p.m. Eastern Time on Thursday, November 18, 2010.

Docket Numbers: ER10-895-007.

Applicants: The Detroit Edison Company.

Description: Amendment to Request for Delay in Effectiveness of the Notice of Cancellation of The Detroit Edison Company.

Filed Date: 10/27/2010.

Accession Number: 20101027-5164.

Comment Date: 5 p.m. Eastern Time on Wednesday, November 17, 2010.

Docket Numbers: ER10-2032-001.

Applicants: Duke Energy Kentucky, Inc.

Description: Duke Energy Kentucky, Inc. submits a Certificate of Concurrence and Compliance Filing, to be effective 7/29/2010.

Filed Date: 10/28/2010.

Accession Number: 20101028-5034.

Comment Date: 5 p.m. Eastern Time on Thursday, November 18, 2010.

Docket Numbers: ER10-2033-001.

Applicants: Duke Energy Ohio, Inc.

Description: Duke Energy Ohio, Inc. submits tariff filing per 35: Compliance Filing to be effective 7/29/2010.

Filed Date: 10/28/2010.

Accession Number: 20101028-5035.

Comment Date: 5 p.m. Eastern Time on Thursday, November 18, 2010.

Docket Numbers: ER10-2393-001.

Applicants: Midwest Independent Transmission System Operator, Inc.

Description: Midwest Independent Transmission System Operator, Inc. submits tariff filing per 35.17(b): 10-28-10 Amendment to be effective 2/2/2011.

Filed Date: 10/28/2010.

Accession Number: 20101028-5097.

Comment Date: 5 p.m. Eastern Time on Thursday, November 18, 2010.

Docket Numbers: ER10-2552-001.

Applicants: Southern California Edison Company.

Description: Southern California Edison Company submits tariff filing per 35.17(b): Resubmission Amendment to IFA with City of Riverside Wilderness Substation to be effective 11/8/2010.

Filed Date: 10/26/2010.

Accession Number: 20101026-5163.

Comment Date: 5 p.m. Eastern Time on Tuesday, November 09, 2010.

Docket Numbers: ER10-2746-002.

Applicants: PJM Interconnection, LLC.

Description: PJM Interconnection, LLC submits tariff filing per 35: PJM Interregional Agreements Baseline Errata re: ER10-2746-000 to be effective 9/17/2010.

Filed Date: 10/26/2010.

Accession Number: 20101026-5150.

Comment Date: 5 p.m. Eastern Time on Tuesday, November 16, 2010.

Docket Numbers: ER11-1910-000.

Applicants: Illinois Power Company.

Description: Illinois Power Company submits tariff filing per 35.15: Cancel Illinois Power Tariff ID to be effective 10/1/2010.

Filed Date: 10/26/2010.

Accession Number: 20101026-5143.

Comment Date: 5 p.m. Eastern Time on Tuesday, November 16, 2010.

Docket Numbers: ER11-1911-000.

Applicants: Idaho Power Company.

Description: Idaho Power Company submits tariff filing per 35: RM10-22 Compliance filing to be effective 10/26/2010.

Filed Date: 10/26/2010.

Accession Number: 20101026-5149.

Comment Date: 5 p.m. Eastern Time on Tuesday, November 16, 2010.

Docket Numbers: ER11-1912-000.

Applicants: Nevada Power Company.

Description: Nevada Power Company submits tariff filing per 35.13(a)(2)(iii): Rate Schedule No. 120 Amended & Restated Interconnection to be effective 10/25/2010.

Filed Date: 10/26/2010.

Accession Number: 20101026-5162.

Comment Date: 5 p.m. Eastern Time on Tuesday, November 16, 2010.

Docket Numbers: ER11-1913-000.

Applicants: ISO New England Inc.

Description: ISO New England Inc. submits tariff filing per 35.13(a)(2)(iii): 2011 NESCOE Budget to be effective 1/1/2011.

Filed Date: 10/27/2010.

Accession Number: 20101027-5026.

Comment Date: 5 p.m. Eastern Time on Wednesday, November 17, 2010.

Docket Numbers: ER11-1914-000.

Applicants: ISO New England Inc., New England Power Pool Participants Committee.

Description: ISO New England Inc. submits tariff filing per 35.13(a)(2)(iii): Various Revisions to FCM Rules to be effective 1/1/2011.

Filed Date: 10/27/2010.

Accession Number: 20101027-5056.

Comment Date: 5 p.m. Eastern Time on Wednesday, November 17, 2010.

Docket Numbers: ER11-1915-000.

Applicants: Public Service Company of New Mexico.

Description: Public Service Company of New Mexico submits tariff filing per 35.13(a)(1): PNM Notice of Transmission Rate Changes—Part 1 of 3 to be effective 1/1/2011.

Filed Date: 10/27/2010.

Accession Number: 20101027-5079.

Comment Date: 5 p.m. Eastern Time on Wednesday, November 17, 2010.

Docket Numbers: ER11-1916-000.

Applicants: Public Service Company of New Mexico.

Description: Public Service Company of New Mexico submits tariff filing per 35.13(a)(1): PNM Notice of Transmission Rate Changes—Part 2 of 3 to be effective 1/1/2011.

Filed Date: 10/27/2010.

Accession Number: 20101027-5080.

Comment Date: 5 p.m. Eastern Time on Wednesday, November 17, 2010.

Docket Numbers: ER11-1917-000.

Applicants: Public Service Company of New Mexico.

Description: Public Service Company of New Mexico submits tariff filing per 35.13(a)(1): PNM Notice of Transmission Rate Changes—Part 3 of 3 to be effective 1/1/2011.

Filed Date: 10/27/2010.

Accession Number: 20101027-5081.

Comment Date: 5 p.m. Eastern Time on Wednesday, November 17, 2010.

Docket Numbers: ER11-1918-000.

Applicants: ISO New England Inc., New England Power Company.

Description: ISO New England Inc. submits tariff filing per 35.13(a)(2)(iii): RI Genco LGIA—Original Service Agreement No. LGIA-ISONE/NEP-10-03 to be effective 10/21/2010.

Filed Date: 10/27/2010.

Accession Number: 20101027-5099.

Comment Date: 5 p.m. Eastern Time on Wednesday, November 17, 2010.

Docket Numbers: ER11-1919-000.

Applicants: PJM Interconnection, LLC.

Description: PJM Interconnection, LLC submits tariff filing per 35.13(a)(2)(iii): WMPA No. 2653, Queue W1-101, PSE&G and PSE&G to be effective 9/27/2010.

Filed Date: 10/27/2010.

Accession Number: 20101027-5102.

Comment Date: 5 p.m. Eastern Time on Wednesday, November 17, 2010.

Docket Numbers: ER11-1920-000.

Applicants: New York Independent System Operator, Inc.

Description: Request of the New York Independent System Operator Inc. for Waivers of North American Energy Standards Board Wholesale Electric Quadrant Standards.

Filed Date: 10/27/2010.

Accession Number: 20101027-5125.

Comment Date: 5 p.m. Eastern Time on Wednesday, November 17, 2010.

Docket Numbers: ER11-1921-000.

Applicants: PJM Interconnection, LLC.

Description: PJM Interconnection, LLC submits tariff filing per 35.13(a)(2)(iii): WMPA No. 2651, Queue W1-099, PSE&G and PSE&G to be effective 9/27/2010.

Filed Date: 10/27/2010.

Accession Number: 20101027-5130.

Comment Date: 5 p.m. Eastern Time on Wednesday, November 17, 2010.

Docket Numbers: ER11-1922-000.

Applicants: Carolina Power & Light Company.

Description: Carolina Power & Light Company submits tariff filing per 35.13(a)(2)(iii): Revised Rate Schedule 187 of Carolina Power and Light Co. to be effective 12/27/2010.

Filed Date: 10/27/2010.

Accession Number: 20101027-5131.

Comment Date: 5 p.m. Eastern Time on Wednesday, November 17, 2010.

Docket Numbers: ER11-1923-000.

Applicants: Entergy Texas, Inc., Entergy Arkansas, Inc., Entergy Gulf States Louisiana, LLC, Entergy Louisiana, LLC, Entergy Mississippi, Inc., Entergy New Orleans, Inc.

Description: Entergy Texas, Inc. submits tariff filing per 35.13(a)(2)(iii): Attachment X to the Entergy Operating Companies' OATT to be effective 12/26/2010.

Filed Date: 10/27/2010.

Accession Number: 20101027-5132.

Comment Date: 5 p.m. Eastern Time on Wednesday, November 17, 2010.

Docket Numbers: ER11-1924-000.

Applicants: Duke Energy Carolinas, LLC.

Description: Duke Energy Carolinas, LLC submits tariff filing per 35.13(a)(2)(iii): Amended and Restated Managing Non-Firm Parallel Flow Agreement to be effective 12/27/2010.

Filed Date: 10/27/2010.

Accession Number: 20101027-5141.

Comment Date: 5 p.m. Eastern Time on Wednesday, November 17, 2010.

Docket Numbers: ER11-1925-000.

Applicants: Pacific Gas and Electric Company.

Description: Notice of Termination of Midway-Sunset SFA of Pacific Gas and Electric Company.

Filed Date: 10/27/2010.

Accession Number: 20101027-5157.

Comment Date: 5 p.m. Eastern Time on Wednesday, November 17, 2010.

Docket Numbers: ER11-1926-000.

Applicants: California Power Exchange Corporation.

Description: California Power Exchange Corporation submits tariff filing per 35.12: Notice of Tariff Identifier for New eTariff Database to be effective 10/28/2010.

Filed Date: 10/28/2010.

Accession Number: 20101028-5037.

Comment Date: 5 p.m. Eastern Time on Thursday, November 18, 2010.

Docket Numbers: ER11-1927-000.

Applicants: Wisconsin Public Service Corporation.

Description: Notice of Cancellation of Service Agreement of Wisconsin Public Service Corporation.

Filed Date: 10/28/2010.

Accession Number: 20101028-5054.

Comment Date: 5 p.m. Eastern Time on Thursday, November 18, 2010.

Docket Numbers: ER11-1928-000.

Applicants: Southwest Power Pool, Inc.

Description: Southwest Power Pool, Inc. submits tariff filing per 35.13(a)(2)(iii): Ministerial Filing to Reflect Tariff Language Accepted in ER10-1014 and -001 to be effective 8/15/2010.

Filed Date: 10/28/2010.

Accession Number: 20101028-5071.

Comment Date: 5 p.m. Eastern Time on Thursday, November 18, 2010.

Docket Numbers: ER11-1929-000.

Applicants: Entergy Services, Inc.

Description: Entergy Services, Inc. submits tariff filing per 35.12: Entergy Services, Inc. Fourth Rev. Rate Schedule No. 435 to be effective 1/1/2011.

Filed Date: 10/28/2010.

Accession Number: 20101028-5078.

Comment Date: 5 p.m. Eastern Time on Thursday, November 18, 2010.

Docket Numbers: ER11-1930-000.

Applicants: Southwest Power Pool, Inc.

Description: Southwest Power Pool, Inc. submits tariff filing per 35.13(a)(2)(iii): Energy Imbalance Market Offer Cap Update Filing to be effective 1/1/2011.

Filed Date: 10/28/2010.

Accession Number: 20101028-5079.

Comment Date: 5 p.m. Eastern Time on Thursday, November 18, 2010.

Docket Numbers: ER11-1931-000.

Applicants: Southern California Edison Company.

Description: Southern California Edison Company submits tariff filing per 35.13(a)(1): 2011 TRBAA Update Filing to be effective 1/1/2011.

Filed Date: 10/28/2010.

Accession Number: 20101028-5081.

Comment Date: 5 p.m. Eastern Time on Thursday, November 18, 2010.

Docket Numbers: ER11-1932-000.

Applicants: Xcel Energy Services Inc.

Description: Notice of Termination of Various Service Agreements filed by Xcel Energy Services Inc. on behalf of Public Service Company of Colorado and Southwestern Public Service Company.

Filed Date: 10/28/2010.

Accession Number: 20101028-5090.

Comment Date: 5 p.m. Eastern Time on Thursday, November 18, 2010.

Docket Numbers: ER11-1933-000.

Applicants: Green Mountain Power Corporation.

Description: Green Mountain Power Corporation submits tariff filing per 35.12: GMP Refile Tariff to be effective 10/28/2010.

Filed Date: 10/28/2010.

Accession Number: 20101028-5101.

Comment Date: 5 p.m. Eastern Time on Thursday, November 18, 2010.

Docket Numbers: ER11-1934-000.

Applicants: Southern California Edison Company.

Description: Southern California Edison Company submits tariff filing per 35.13(a)(1): 2011 RSBAA Update Filing to be effective 1/1/2011.

Filed Date: 10/28/2010.

Accession Number: 20101028-5102.

Comment Date: 5 p.m. Eastern Time on Thursday, November 18, 2010.

Take notice that the Commission received the following electric securities filings:

Docket Numbers: ES11-1-001.

Applicants: Oklahoma Gas and Electric Company.

Description: Amendment to Application of Oklahoma Gas and Electric Company.

Filed Date: 10/27/2010.

Accession Number: 20101027-5022.

Comment Date: 5 p.m. Eastern Time on Monday, November 8, 2010.

Docket Numbers: ES11-3-000.

Applicants: MDU Resources Group, Inc.

Description: MDU Resources Group, Inc. Application for authority to issue MDU Resources short-term notes and commercial paper 2010-2012.

Filed Date: 10/28/2010.

Accession Number: 20101028-5121.

Comment Date: 5 p.m. Eastern Time on Thursday, November 18, 2010.

Take notice that the Commission received the following public utility holding company filings:

Docket Numbers: PH11-1-000.

Applicants: Valener Inc.

Description: Valener Inc. submits notification for a waiver of the accounting, record-retention, and filing requirements.

Filed Date: 10/27/2010.

Accession Number: 20101028-0201.

Comment Date: 5 p.m. Eastern Time on Wednesday, November 17, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-27950 Filed 11-4-10; 8:45 am]

BILLING CODE 6717-01-P